DEPARTMENT OF ENERGY

Federal Energy Regulatory Commission

[Docket Nos. RP00-410-005,and RP01-8-005]

CenterPoint Energy-Mississippi River Transmission Corporation; Notice of Compliance Filing

April 1, 2003.

Take notice that on March 27, 2003, CenterPoint Energy-Mississippi River Transmission Corporation (MRT) tendered for filing as part of its FERC Gas Tariff, Third Revised Volume No. 1, the following tariff sheets to be effective April 1, 2003:

Substitute Eighth Revised Sheet No. 73

Substitute Original Sheet No. 123A

Substitute Fourth Revised Sheet No. 125

Substitute Fourth Revised Sheet No. 164

Original Sheet No. 164A

Substitute Fifth Revised Sheet No. 175

Substitute Third Revised Sheet No. 226A

Substitute Original Sheet No. 253

Original Sheet No. 253A

Second Revised Sheet No. 254

Substitute Original Sheet No. 255

MRT states that the purpose of this filing is to comply with the Commission's order issued February 26, 2003 in Docket Nos. RP00-410-002, RP00-410-003, RP01-8-002 and RP01-8-003.

Any person desiring to protest said filing should file a protest with the Federal Energy Regulatory Commission, 888 First Street, NE., Washington, DC 20426, in accordance with section 385.211 of the Commission's Rules and Regulations. All such protests must be filed in accordance with Section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 8, 2003.

Magalie R. Salas,
Secretary.

[FR Doc. 03-8460 Filed 4-7-03; 8:45 am]

BILLING CODE 6717-01-P